NUCLEAR REGULATORY COMMISSION

10 CFR Part 50

[Docket No. PRM-50-94; RC-2010-0004]

Sherwood Martinelli; Receipt of Petition for Rulemaking

AGENCY: Nuclear Regulatory Commission.

ACTION: Petition for rulemaking; notice of receipt.

SUMMARY: The Nuclear Regulatory Commission (NRC) is publishing for public comment a notice of receipt of a petition for rulemaking, dated December 23, 2009, which was filed with the NRC by Sherwood Martinelli. The petition was docketed by the NRC on December 24, 2009, and has been assigned Docket No. PRM-50-94. The petitioner requests that the NRC amend its regulations regarding the domestic licensing of production and utilization facilities. Specifically, the petitioner requests that the NRC revise its regulations as they relate to decommissioning and decommissioning funding.

DATES: Submit comments by May 12, 2010. Comments received after this date will be considered if it is practical to do so, but the NRC is able to assure consideration only for comments received on or before this date.

ADDRESSES: Please include Docket ID NRC-2010-0004 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

Federal Rulemaking Web Site: Go to http://www.regulations.gov and search for documents filed under Docket ID NRC-2010-0004. Comments may be submitted electronically through this Web site. Address questions about NRC dockets to Carol Gallagher, 301-492-3668, e-mail Carol.Gallagher@nrc.gov.

Mail comments to: Secretary, U.S. Nuclear Regulatory Commission, Washington, DC 20555-0001, Attn: Rulemakings and Adjudications Staff.

E-mail comments to: Rulemaking.Comments@nrc.gov. If you do not receive a reply e-mail confirming that we have received your comments, contact us directly at (301) 415-1677.

Hand-deliver comments to: 11555 Rockville Pike, Rockville, Maryland 20852, between 7:30 am and 4:15 pm Federal workdays (telephone (301) 415-1677).

Fax comments to: Secretary, U.S. Nuclear Regulatory Commission at (301) 415-1101.

You can access publicly available documents related to this petition, including the incoming petition for rulemaking, using the following methods:

NRC's Public Document Room (PDR): The public may examine and have copied for a fee publicly available documents the NRC's PDR, Room O1 F21, One White Flint North, 11555 Rockville Pike, Rockville, Maryland.

NRC's Agencywide Documents Access and Management System (ADAMS): Publicly available documents created or received at the NRC, including the incoming petition for rulemaking (ADAMS Accession No. ML093620175), are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR Reference staff at 1-800-397-4209, 301-415-4737 or by e-mail to pdr.resource@nrc.gov.

Federal Rulemaking Web Site: Public comments and supporting materials related to this petition for rulemaking can be found at http://www.regulations.gov by searching on Docket ID NRC-2010-0004.

FOR FURTHER INFORMATION CONTACT: Michael T. Lesar, Chief, Rulemaking and Directives Branch, Division of Administrative Services, Office of Administration, U.S. Nuclear Regulatory Commission, Washington, DC 20555-0001, Telephone: 301-492-3663 or Toll Free: 800-368-5642.

SUPPLEMENTARY INFORMATION:

Background

Sherwood Martinelli (petitioner) submitted a petition for rulemaking dated December 23, 2009. The petitioner requests that the NRC revise its regulations as they relate to decommissioning and decommissioning funding. The NRC has determined that the petition meets the threshold sufficiency requirements for a petition for rulemaking under 10 CFR 2.802. The petition has been docketed as PRM-50-94. The NRC is requesting public comment on the petition for rulemaking.

Discussion of the Petition

The petitioner believes that with the current state of the economy, a 2-year reporting requirement is not adequate to ensure the safety and adequacy of funds set aside for the decommissioning of a nuclear power plant. The petitioner requests that the NRC amend its regulations to require yearly reporting by licensees on the status of these financial mechanisms used to ensure funding, and biannual reporting if the license is within 5 years of expiration. The petitioner further requests that the NRC require additional deposits to the funding accounts within 90 days from the time a shortage is noted in the annual reports.

According to the petitioner, licensees may choose from three alternative decommissioning strategies: DECON (immediate removal or decontamination), SAFSTOR (“delayed DECON”), or ENTOMB (permanent encasement onsite). The petitioner believes that the SAFSTOR decommissioning option allows licensees to turn the reactor sites into long-term high-level waste storage facilities. The petitioner cites the NRC Fact Sheet, Decommissioning Nuclear Power Plants, which states that a decision by a licensee to adopt a combination of DECON and SAFSTOR may be based on factors such as the availability of waste disposal sites. The petitioner believes that this wording creates a loophole whereby a site choosing the SAFSTOR option would not be returned to unrestricted use within a period of 60 years from the time reactor operation ceases. The petitioner requests that the NRC amend its regulations to clarify that a licensee's choice of alternative decommissioning strategy must result in the return of the site to unrestricted use within 60 years and that the NRC eliminate the ENTOMB strategy as an option.

The petitioner believes that, if implemented, the reporting and financial assurance amendments proposed would provide reasonable assurance that funds will be available when needed to clean up a plant site and avoid costly legacy sites to be cleaned up at taxpayer expense. With respect to the proposal to clarify the decommissioning strategies available to licensees, the petitioner believes that these proposed amendments assure that portions of the facility containing radioactive contaminants would be removed or decommissioned to a level that permits release of the property for unrestricted use within 60 years after the cessation of operations.

Dated at Rockville, Maryland, this 22nd day of February, 2010.
For the Nuclear Regulatory Commission.
Annette L. Vietti-Cook,
Secretary of the Commission.

[FR Doc. 2010-3989 Filed 2-25-10; 8:45 am]

BILLING CODE 7590-01-P